SMALL BUSINESS ADMINISTRATION

[Midwest Mezzanine Fund V SBIC, L.P. License No. 05/05-0318]

Notice Seeking Exemption Under Section 312 of the Small Business Investment Act, Conflicts of Interest

Notice is hereby given that Midwest Mezzanine Fund V SBIC, L.P., 55 West Monroe Street, Suite 3650 Chicago, IL 60603, a Federal Licensee under the Small Business Investment Act of 1958, as amended (“the Act”), in connection with the financing of a small concern, has sought an exemption under Section 312 of the Act and Section 107.730, Financings which constitute Conflicts of Interest of the Small Business Administration (“SBA”) Rules and Regulations (13 CFR 107). Midwest Mezzanine Fund V SBIC, L.P., proposes purchasing subordinated debt and equity financings provided to Currie Medical Specialties, Inc. of 8758 Hellman Avenue, Rancho Cucamonga, CA 91730, Denison Pharmaceuticals, Inc. of One Power Hill Road, Lincoln, RI 02865, Packaging Concepts & Design, LLC of 1307 I Allen Drive, Troy, Mi 48083, Uncle Milton Industries, Inc. of 29209 Canwood Street, Suite 120, Agoura Hills, CA 91301, and Vapor Power International, LLC of 551 South County Line Road, Franklin Park, IL 60131. The financings Midwest Mezzanine Fund V SBIC, L.P. seeks to purchase are held by Midwest Mezzanine Fund V, L.P.

These financings are brought within the purview of § 107.730(d) of the Regulations because Midwest Mezzanine Fund V SBIC, L.P. and Midwest Mezzanine Fund V, L.P. Partners II SBIC, L.P. are Associates. Therefore this transaction requires prior SBA exemption.

Notice is hereby given that any interested person may submit written comments on the transaction, within fifteen days of the date of this publication, to the Associate Administrator for Investment and Innovation, U.S. Small Business Administration, 409 Third Street, SW., Washington, DC 20416.

Javier E. Saade,
Associate Administrator for Office of Investment and Innovation.

[FR Doc. 2014-29271 Filed 12-12-14; 8:45 am]

BILLING CODE P